CONSUMER PRODUCT SAFETY COMMISSION

[Docket No. CPSC-2021-0018]

Agency Information Collection Activities; Proposed Collection; Comment Request; Toy Warning Labels Online Survey

AGENCY: Consumer Product Safety Commission.

ACTION: Notice.

SUMMARY: The Consumer Product Safety Commission (CPSC) is announcing an opportunity for public comment on a new proposed collection of information by the agency. Under the Paperwork Reduction Act of 1995 (PRA), federal agencies are required to publish notice in the Federal Register for each proposed collection of information, and to allow 60 days for public comment in response to the notice. This notice solicits comments on a proposed survey to assess how toy safety labels on e-commerce websites affect caregivers' purchasing behaviors. The Commission will consider all comments received in response to this notice before submitting this collection of information to the Office of Management and Budget (OMB) for approval.

DATES: Submit written or electronic comments on the collection of information by August 23, 2021.

ADDRESSES: You may submit comments, identified by Docket No. CPSC-2021-0018, by any of the following methods:

Electronic Submissions: Submit electronic comments to the Federal eRulemaking Portal at: https://www.regulations.gov. Follow the instructions for submitting comments. CPSC does not accept comments submitted by electronic mail (email), except through https://www.regulations.gov. CPSC encourages you to submit electronic comments by using the Federal eRulemaking Portal, as described above.

Mail/Hand Delivery/Courier Written Submissions: Submit comments by mail/hand delivery/courier to: Division of the Secretariat, Consumer Product Safety Commission, Room 820, 4330 East-West Highway, Bethesda, MD 20814; telephone: (301) 504-7479; email: cpsc-os@cpsc.gov.

Instructions: All submissions must include the agency name and docket number for this notice. CPSC may post all comments received without change, including any personal identifiers, contact information, or other personal information provided, to: https://www.regulations.gov. Do not submit electronically: Confidential business information, trade secret information, or other sensitive or protected information that you do not want to be available to the public. If you wish to submit such information, please submit it according to the instructions for mail/hand delivery/courier written submissions.

Docket: For access to the docket to read background documents or comments received, go to: https://www.regulations.gov, insert Docket No. CPSC-2021-0018 into the “Search” box, and follow the prompts. A copy of the proposed survey is available at http://www.regulations.gov under Docket No. CPSC-2021-0018, Supporting and Related Material.

FOR FURTHER INFORMATION CONTACT: Cynthia Gillham, Consumer Product Safety Commission, 4330 East-West Highway, Bethesda, MD 20814; (301) 504-7991, or by email to: cgillham@cpsc.gov.

SUPPLEMENTARY INFORMATION: Under the PRA (44 U.S.C. 3501-3520), Federal agencies must obtain approval from OMB for each collection of information they conduct or sponsor. “Collection of information” is defined in 44 U.S.C. 3502(3) and 5 CFR 1320.3(c) and includes agency proposed surveys. Section 3506(c)(2)(A) of the PRA (44 U.S.C. 3506(c)(2)(A)) requires federal agencies to provide a 60-day notice in the Federal Register concerning each proposed collection of information before submitting the collection to OMB for approval. Accordingly, CPSC is publishing notice of the proposed collection of information set forth in this document.

A. Warning Label Comprehension Survey

CPSC is authorized under section 5(a) of the Consumer Product Safety Act (CPSA), 15 U.S.C. 2054(a), to conduct studies and investigations relating to the causes and prevention of deaths, accidents, injuries, illnesses, other health impairments, and economic losses associated with consumer products. Section 5(b) of the CPSA, 15 U.S.C. 2054(b), further provides that CPSC may conduct research, studies, and investigations on the safety of consumer products, and develop product safety test methods and testing devices.

In 2020, we conducted an Online Shopping Focus Group with 40 participants, which was approved under OMB Control No. 3041-0136. In-depth-interviews were conducted with primary caregivers (parent or guardian) of young children ages 3-6 years old, to gather feedback on the caregivers' understanding, perceptions, and attitudes toward online toy safety messaging. Caregiver responses in the focus group study indicated that typically, they do not look for warning labels on web pages when shopping for toys on e-commerce websites. Some of the reasons for the failure to look for the warning labels may be the lack of prominent visibility of the safety information on consumer web pages, or because the warning labels were not particularly noticeable, or easy to find. These findings suggest that improving the location or design of warning labels may help caregivers become more aware and informed about the potential safety risks associated with products intended for young children.

CPSC seeks to learn more about caregivers' understanding and awareness of warning labels for toys intended for children 2 to 6 years old. This proposed survey will augment the work conducted in the focus group, through an online survey with 250 participants. The proposed survey will be directed to caregivers who have purchased a toy from an e-commerce website for a 2- to 6-year-old child, and assess how these caregivers interpret and adhere to safety warnings when purchasing toys for their child. CPSC will use this information to develop strategies and best-practice approaches for recommending where and how safety warnings for children's products should be displayed to get caregivers' attention when shopping online for children's toys or products.

CPSC has contracted with Fors Marsh Group, LLC, to develop and execute this project for CPSC. Information obtained through this survey is not intended to be considered nationally representative. CPSC intends to use findings from this survey, with findings from other research and activities, to assist with providing recommendations for refining and enhancing warning labels in the future, to convey critical information effectively about product safety warnings for online sellers.

B. Burden Hours

We estimate the number of respondents to the survey to be 250. The online survey for the proposed study will take approximately 15 minutes (0.25 hours) to complete. We estimate the total annual burden hours for respondents to be 62.50 hours. The monetized hourly cost is $38.60, as defined by total compensation for all civilian workers, U.S. Bureau of Labor Statistics, Employer Costs for Employee Compensation, as of December 2020. Accordingly, we estimate the total cost burden to be $2,412.50 (62.50 hours × $38.60). The total cost to the federal government for the contract to design and conduct the proposed survey is $152,712.

C. Request for Comments

CPSC invites comments on these topics:

• Whether the proposed collection of information is necessary for the proper performance of CPSC's functions, including whether the information will have practical utility;

• The accuracy of CPSC's estimate of the burden of the proposed collection of information, including the validity of the methodology and assumptions used;

• Ways to enhance the quality, utility, and clarity of the information to be collected; and

• Ways to minimize the burden of the collection of information on respondents, including through the use of automated collection techniques, when appropriate, and other forms of information technology.

Alberta E. Mills,
Secretary, Consumer Product Safety Commission.

[FR Doc. 2021-13325 Filed 6-23-21; 8:45 am]

BILLING CODE P